DEPARTMENT OF STATE

[Public Notice 5959]

Bureau of Educational and Cultural Affairs EducationUSA Advising Services in Eurasia and Central Asia; Notice: Amendment to Original Request for Proposals (RFGP)

Summary: The United States Department of State, Bureau of Educational and Cultural Affairs, announces an amendment to the RFGP for EducationUSA Advising Services in Eurasia and Central Asia (ECA/A/S/A-08-06).

In Section II, in “Award Information,” Moldova should be included in the list of countries in Eurasia, as outlined in the Executive Summary of the RFGP, in which applicant organizations may propose to support educational advising. All other terms and conditions of the original solicitation remain the same.

For questions about this amendment, contact: Henry Scott, ECA/A/S/A, Room 349, U.S. Department of State, 301 4th Street, SW., Washington, DC 20547, telephone: 202-453-8883, fax: 202-453-8890, e-mail: scotthc@state.gov. Include a reference to Funding Opportunity Number ECA/A/S/A-08-06.

Additional Information: The announcement for EducationUSA Advising Services in Eurasia was originally announced in the Federal Register, Volume 72, Number 187 on September 27, 2007.

Dated: October 9, 2007.
C. Miller Crouch,
Acting Assistant Secretary, Bureau of Educational and Cultural Affairs, Department of State.

[FR Doc. E7-20369 Filed 10-15-07; 8:45 am]

BILLING CODE 4710-05-P